DEPARTMENT OF COMMERCE

International Trade Administration

[A-412-803]

Industrial Nitrocellulose From the United Kingdom; Final Results of Antidumping Duty Administrative Review

AGENCY: Import Administration, International Trade Administration, Department of Commerce.

SUMMARY: On August 12, 2002, the Department of Commerce (the Department) published the preliminary results of the administrative review of the antidumping duty order on industrial nitrocellulose (INC) from the United Kingdom (67 FR 52447). This review covers one manufacturer/exporter of the subject merchandise (Imperial Chemical Industries, PLC). The period of review (POR) is July 1, 2000, through June 30, 2001.

Based on our analysis of the comments received, we have made changes in the margin calculation. Therefore, the final results differ from the preliminary results. The final weighted-average dumping margin for the reviewed firm is listed below in the section entitled “Final Results of Review.”

EFFECTIVE DATE: December 19, 2002.

FOR FURTHER INFORMATION CONTACT: Howard Smith or Michele Mire, Office of AD/CVD Enforcement, Office 4, Group II, Import Administration, International Trade Administration, U.S. Department of Commerce, 14th Street and Constitution Avenue, NW., Washington, DC 20230; telephone (202) 482-5193 or (202) 482-4711, respectively.

SUPPLEMENTARY INFORMATION:

The Applicable Statute

Unless otherwise indicated, all citations are to the Tariff Act of 1930, as amended (the Act). In addition, unless otherwise indicated, all citations to the Department's regulations are to 19 CFR Part 351 (2001).

Background

On August 12, 2002, the Department published in the Federal Register the preliminary results of the administrative review of the antidumping duty order on INC from the United Kingdom. See Industrial Nitrocellulose from the United Kingdom: Notice of Preliminary Results of Antidumping Duty Administrative Review, 67 FR 52447 (August 12, 2002).

In response to the Department's invitation to comment on the preliminary results of this review, Imperial Chemical Industries, PLC (ICI or respondent) filed its case brief on November 13, 2002. Green Tree Chemical Technologies, Inc. (Green Tree or petitioner) filed its rebuttal brief on November 18, 2002.

Scope of Review

Imports covered by this review are shipments of INC from the United Kingdom. INC is a dry, white amorphous synthetic chemical with a nitrogen content between 10.8 and 12.2 percent, and is produced from the reaction of cellulose with nitric acid. INC is used as a film-former in coatings, lacquers, furniture finishes, and printing inks. The scope of this order does not include explosive grade nitrocellulose, which has a nitrogen content of greater than 12.2 percent.

INC is currently classified under Harmonized Tariff Schedule of the United States (HTSUS) item number 3912.20.0000. While the HTS classification number is provided for convenience and Customs purposes, the written description remains dispositive as to the scope of the product coverage.

Verification

As provided in section 782(i) of the Act, we verified the information submitted by the respondent for use in our final results. We used standard verification procedures including examination of relevant accounting and production records, and original source documents provided by the respondent.

Analysis of Comments Received

The issue raised in the case and rebuttal briefs submitted by parties to this administrative review is addressed in the “Issues and Decision Memorandum” (Decision Memorandum) from Bernard T. Carreau, Deputy Assistant Secretary for Import Administration, to Faryar Shirzad, Assistant Secretary for Import Administration, dated December 10, 2002, which is hereby adopted by this notice. This issue is identified in the attached appendix to this notice. Parties can find a complete discussion of the issue raised in this review and the corresponding recommendation in this public memorandum, which is on file in the Central Records Unit, room B-099, of the main Department building. In addition, a complete version of the Decision Memorandum can be accessed directly on the Web at http://ia.ita.doc.gov. The paper copy and electronic version of the Decision Memorandum are identical in content.

Changes Since the Preliminary Results

Based on our analysis of comments received, we have made certain changes in the margin calculation. These changes are discussed in the relevant sections of the Decision Memorandum.

Final Results of Review

We determine that the following weighted-average percentage margin exists for the period July 1, 2000, through June 30, 2001:

Manufacturer/exporter | Weighted-average percent margin
Imperial Chemical Industries, PLC | 3.06 percent.

Assessment

The Department will determine, and the Customs Service shall assess, antidumping duties on all appropriate entries. In accordance with 19 CFR 351.212(b)(1), we have calculated an importer-specific assessment rate for merchandise subject to this review. The Department will issue appropriate assessment instructions directly to the Customs Service within 15 days of publication of these final results of review. We will direct the Customs Service to assess the resulting assessment rates against the entered customs values of the subject merchandise on each of the importer's entries during the review period.

Cash Deposit Requirements

The following cash deposit requirements will be effective for all shipments of subject merchandise entered, or withdrawn from warehouse, for consumption on or after the publication date of this notice of final results of administrative review, as provided by section 751(a)(1) of the Act: (1) The cash deposit rate for the reviewed company will be that rate established in the final results of this review; (2) for previously reviewed or investigated companies not listed above, the cash deposit rate will continue to be the company-specific rate published for the most recent period; (3) if the exporter is not a firm covered in this review, a prior review, or the original less-than-fair-value (LTFV) investigation, but the manufacturer is, the cash deposit rate will be the rate established in the most recent final results for the manufacturer of the merchandise; and (4) the cash deposit rate for all other manufacturers or exporters will continue to be 11.13 percent, the “all-others” rate established in the LTFV investigation (55 FR 21055, May 22, 1990).

These deposit requirements, when imposed, shall remain in effect until publication of the final results of administrative review for a subsequent review period.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Administrative Protective Orders

This notice also serves as the only reminder to parties subject to administrative protective orders (APOs) of their responsibility concerning the return or destruction of proprietary information disclosed under an APO in accordance with 19 CFR 351.305 of the Department's regulations. Timely written notification of the return/destruction of APO materials or conversion to judicial protective order is hereby requested. Failure to comply with the regulations and terms of an APO is a violation which is subject to sanction.

This administrative review and notice are issued and published in accordance with sections 751(a)(1) and 777(i)(1) of the Act.

Dated: December 10, 2002.
Faryar Shirzad,
Assistant Secretary for Import Administration.

Appendix—Issue in Decision Memorandum

1. Whether the Department Should Calculate the Net Interest Expense Ratio Based on the Fiscal Year Financial Statements of the Subsidiary, Nobel's Explosives Company, Ltd. (NEC), rather than the Fiscal Year Consolidated Financial Statements of the Parent, Imperial Chemical Industries, PLC (ICI).

[FR Doc. 02-31975 Filed 12-18-02; 8:45 am]

BILLING CODE 3510-DS-P